DEPARTMENT OF HOUSING AND URBAN DEVELOPMENT

[Docket No. FR-5909-N-43]

30-Day Notice of Proposed Information Collection: Applications for Housing Assistance Payments; Special Claims Processing

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: July 29, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on April 27, 2016 at 81 FR 24865.

A. Overview of Information Collection

Title of Information Collection: Applications for Housing Assistance Payments; Special Claims Processing.

OMB Approval Number: 2502-0182.

Type of Request: Revision of currently approved collection.

Form Number: HUD 52670-A part 5, HUD-52671-C, HUD 52671-A, HUD-52671-D, 52670-A-PART-1, HUD 52671-B, HUD-52670, HUD 52670-A-Part 3, HUD-52670-A Part 4, HUD 52670-A Part 2.

Description of the need for the information and proposed use: HUD's Office of Multifamily Housing Programs needs to collect this information in order to establish an applicant's eligibility for admittance to subsidized housing, specify which eligible applicants may be given priority over others, and prohibit racial discrimination in conjunction with selection of tenants and unit assignments.

HUD must specify tenant eligibility requirements as well as how tenants' incomes, rents and assistance must be verified and computed so as to prevent HUD from making improper payments to owners on behalf of assisted tenants. These information collections are essential to ensure the reduction of improper payments standard in providing $9.5 billion in rental assistance to low-income families in HUD Multifamily properties.

a. These collections are authorized by the following statutes:

• Section 8 (42 U.S.C. 1437 et seq.).

• Rent Supplement (12 U.S.C. 1701s).

• Rental Assistance Payments (12 U.S.C. 1715z-1).

• Section 236 (12 U.S.C. 1172z-1).

• Section 221(d) (3) Below Market Interest Rate (12 U.S.C. 1715l).

• Title VI of the Civil Rights Act of 1964.

• Title VIII of the Civil Rights Act of 1968, as amended (Section 808).

• Executive Order 11063, Equal Opportunity in Housing.

• Social Security Numbers (42 U.S.C. 3543).

• Section 562 of the Housing and Community Development Act of 1987.

• Section 202 of the Housing Act of 1959, as amended.

• Section 811 of the National Affordable Housing Act of 1980.

• Computer Matching and Privacy Protection Act of 1988 (102 Statute 2507).

• Privacy Act of 1974 (5 U.S.C. 552a), Records Maintained on Individuals.

• Quality Housing and Work Responsibility Act of 1998 (QHWRA).

• Section 658 of Title VI of Subtitle D of the Housing and Community Development Act of 1992.

• Executive Order 13520 of November 20, 2009, The Improper Payments Elimination and Recovery Act (IPERA).

• Executive Order 13515 of October 14, 2009, Increasing Participation of Asian Americans and Pacific Islanders in Federal Programs.

b. These collections are covered by the following regulations:

• Section 8: 24 CFR part 5, 24 CFR 880, 24 CFR 884, 24 CFR 886, 24 CFR 891 Subpart E.

• Section 236 and Rental Assistance Payments: 24 CFR 236.

• Section 221(d) (3): 24 CFR 221.

• Racial, Sex, Ethnic Data: 24 CFR 121.

• Nondiscrimination and Equal Opportunity in Housing: 24 CFR 107.

• Nondiscrimination in Federal Programs: 24 CFR 1.

• Social Security Numbers: 24 CFR part 5.

• Procedures for Obtaining Wage and Claim Information Agencies: 24 CFR part 760.

• Implementation of the Privacy Act of 1974: 24 CFR part 16.

• Mandated use of HUD's Enterprise Income Verification (EIV) System: 24 CFR 5.233.

Respondents (i.e., affected public):

• Performance Based Contract Administrators

• Contract Administrators

• Owners and Property Management Agents

• State Housing Finance Agencies

• Public Housing Authorities (PHA)

• The Government Accountability Office

• U.S. Census Bureau

• Office of Management and Budget (OMB)

• Congress/Public Requests (Under FOIA)

Estimated Number of Respondents: 25, 843.

Estimated Number of Responses: 322,116.

Frequency of Response: 12 per annum.

Average Hours per Response: 1.33.

Total Estimated Burdens: 372,497.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: June 22, 2016.
Colette Pollard,
Department Reports Management Officer, Office of the Chief Information Officer.

[FR Doc. 2016-15423 Filed 6-28-16; 8:45 am]

BILLING CODE 4210-67-P